NATIONAL SCIENCE FOUNDATION

Agency Information Collection Activities: Comment Request

AGENCY: National Science Foundation.

ACTION: Submission for OMB review; comment request.

SUMMARY: Under the Paperwork Reduction Act of 1995, Pub. L. 104-13 (44 U.S.C. 3501 et seq.), and as part of its continuing effort to reduce paperwork and respondent burden, the National Science Foundation (NSF) is inviting the general public and other Federal agencies to comment on this proposed continuing information collection. This is the second notice for public comment; the first was published in the Federal Register at 65 FR 81902 and no comments were received. NSF is forwarding the proposed submission to the Office of Management and Budget (OMB) for clearance simultaneously with the publication of this second notice.

DATES: Comments regarding these information collections are best assured of having their full effect if received by OMB on or before April 9, 2001.

ADDRESSES: Written comments regarding (a) whether the collection of information is necessary for the proper performance of the functions of NSF, including whether the information will have practical utility; (b) the accuracy of NSF's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Teresa R. Pierce, Reports Clearance Officer, National Science Foundation, 4201 Wilson Boulevard, Suite 295, Arlington, Virginia 22230 or send e-mail to tpierce@nsf.gov. Copies of the submission may be obtained by calling (703) 292-7555.

FOR FURTHER INFORMATION CONTACT: Teresa R. Pierce, NSF Reports Clearance Officer at (703) 292-7555 or send e-mail to tpierce@nsf.gov.

An agency may not conduct or sponsor a collection of information unless the collection of information displays a currently valid OMB control number and the agency informs potential persons who are to respond to the collection of information that such persons are not required to respond to the collection of information unless it displays a currently valid OMB control number.

SUPPLEMENTARY INFORMATION: Title of Collection: Medical Clearance Process for Deployment to the Polar Regions.

OMB Control No.: 3145-NEW.

Abstract:

A. Proposed Project

All individuals who anticipate deploying to Antarctica and to certain regions of the Arctic under the auspices of the National Science Foundation's Office of Polar Programs are required to take and pass a rigorous physical examination prior to deploying. The physical examination includes a medical history, medical examination, a dental examination and for those persons planning to winter over in Antarctica a psychological examination is also required. The requirement for this determination of physical status for Antarctic deployment is found in 42 U.S.C. 1870 (Authority) and 45 CFR 675, unless otherwise noted. This part sets forth the procedures for medical screening to determine whether candidates for participation in the United States Antarctic Program (USAP) are physically qualified and psychologically adapted for assignment or travel to Antarctica. Medical screening examinations are necessary to determine the presence of any physical or psychological conditions that would threaten the health or safety of the candidate or other polar participants or that could not be effectively treated by the limited medical care capabilities at the Arctic and Antarctic stations.

(b) Presidential Memorandum No. 6646 (February 5, 1982) (available from the National Science Foundation, Office of Polar Programs, room 755, 4201 Wilson Blvd., Arlington, VA 22230) sets forth the National Science Foundation's overall management responsibilities for the entire United States national program in Antarctica.

(c) The Arctic Research and Policy Act, As Amended (Public Law 98-373, July 31, 1984 amended as Public Law 101-609, November 16, 1990) (available from the National Science Foundation, Office of Polar Programs, room 755, 4201 Wilson Blvd., Arlington, VA 22230) sets forth the National Science Foundation's responsibility as the lead agency responsible for implementing Arctic research policy.

B. Use of the Information

1. Form NSF-1421, 1451, 1461, National Science Foundation—Medical Risks for NSF-Sponsored Personnel Traveling to Antarctica/Polar Regions—will be used to inform the polar participants of the risks associated with traveling to the polar regions where there are only limited medical care capabilities and facilities.

2. Form NSF-1422, 1452, 1462, National Science Foundation—Polar Physical Examination—Medical History—Antarctica/Official Visitor/Arctic, will be used by the individual to record the individual's family and personal medical histories. It is a five-page form that includes the individual's and the individual's emergency point-of-contact's name, address, and telephone numbers. It contains the individual's email address, employment affiliation and dates and locations of current and previous polar deployments. It also includes a signed certification of the accuracy of the information and understandings of refusal to provide the information or providing false information. The agency's contractor's reviewing physician and medical staff complete the sections of the form that indicated when the documents were received and whether or not the participant is qualified for Antarctic deployment, in which season qualified to deploy and where disqualified the reasons.

3. Form NSF-1423, 1453, 1463, Polar Physical Examination—Antarctica/Official Visitor/Arctic, will be used by the individual's physician to document specific medical examination results and the overall status of the individual's health. It is a two-page form which also provides for the signatures of both the patient and the examining physician, as well as contact information about the examining physician. Finally, it contains the name, address and telephone number of the agency's contractor that collects and retains the information.

4. Form NSF-1424, 1454, 1464, National Science Foundation—Medical Screening for Blood-Borne Pathogens/Consent for HIV Antibody Blood Test—Antarctica/Official Visitor/Arctic will be used to notify individuals of the requirement for Hepatitis B and C and HIV screening for winter over participants and to encourage summer season participants to voluntarily be tested.

5. Form NSF-1425, 1455, 1465, Polar Dental Examination—Antarctica/Official Visitor/Arctic, will be used by the examining dentist to document the status of the individual's dental health and to document when the individual was examined. It will also be used by the contractor's reviewing dentist to document whether or not the individual is dentally cleared to deploy to the polar regions.

6. Form NSF-1426, 1456, 1466, National Science Foundation—Polar Physical Examination—Medical History Interval Screening—Antarctica/Official Visitor/Arctic, will only be used by individuals who are under the age of 40 and who successfully took and passed a polar physical examination the previous season or not more than 24 months prior to current deployment date. It allows the otherwise healthy individual to update his or her medical data without having to take a physical examination every year as opposed to those over 40 years of age who must be examined annually.

7. Form NSF-1427, 1467, National Science Foundation—Authorization for Treatment of Field-Team Member/Participant Under the Age of 18 Years—will be used by the individual's parent or guardian to authorize medical treatment while the under age participant is deployed, if needed.

8. Form NSF-1428, 1468, National Science Foundation—Request for Waiver of Medical Requirements—USAP/Arctic—Any individual who is determined to be not physically qualified for polar deployment may request an administrative waiver of the medical screening criteria. This allows the individual to request and receive an in-depth review of his or her disqualifying condition as it relates to him or her to determine the risk of deploying in spite of the disqualifying medical condition.

9. Form NSF-1429, 1469, National Science Foundation—Employer Statement of Support—Antarctica/Arctic will allow the individual's employer to acknowledge that his or her employee has been found not physically qualified in accordance with polar medical screening criteria and to make a determination of acceptable risk in accordance with the Americans with Disabilities Act. It ensures that the employer understands that NSF has determined there is a risk to the individual of deploying and allows the employer to determine whether to support the request or provide a replacement.

10. Other information requested: The polar medical screening packages also includes the NSF Privacy Notice, which is not numbered and the following documents added by the primary support contractor:

—the Dear participant, Dear Doctor and Dear Dentist letters and a list of all medical laboratory tests required. This information is provided in response to participants' requests for more definitive information regarding the screening requirements. The NSF will instruct its contractors to include the Estimate of Burden Statement in the Dear Participant Letter.

Estimate of Burden: Public reporting burden for this collection of information is estimated to be approximately 11.4 hours annually per participant for the Antarctic and Arctic forms and 9.8 hours for the Official Visitor forms.

Respondents: All individuals deploying to the Antarctic to Greenland and to other select areas of the Arctic that are under the auspices of the National Science Foundation's Office of Polar Programs must complete these forms. There are approximately 3,120 submissions per year, with a small percentage (c.3%) under the age of 40 who are required to provide annual submissions but only take a complete physical examination every two years.

Estimated Number of Responses per Form: 3,120.

Estimated Total Annual Burden on Respondents: The total annual burden in hours is 29,617.11, broken down by form:

NSF form number—Antarctica | Annual burden hours | NSF form number— official visitors | Annual burden hours | NSF form number— arctic | Annual burden hours
1421 | 3,000.00 | 1451 | 20.00 | 1461 | 50.000
1422 | 1,500.00 | 1452 | 10.00 | 1462 | 25.000
1423 | 18,000.00 | 1453 | 180.00 | 1463 | 300.000
1424 | 270.00 | 1454 | 1.80 | 1464 | 4.500
1425 | 6,000.00 | 1455 | 40.00 | 1465 | 100.000
1426* | 37.50 | *1456 | 0.50 | *1466 | 0.625
1427** | 0.09 |  |  | **1467 | 0.090
1428*** | 25.0 |  |  | ***1468 | <1.00
1429*** | 50.0 |  |  | ***1469 | <1.00
Total | 28,882.59 |  | 252.30 |  | 482.22
*These forms are completed by under age 40 participants only and are completed every other year.
**This form is only completed by participants who are under age 18.
***For those individuals who request a waiver after being not physically qualified.

Frequency of Responses: Individuals must complete the forms annually to be current within 12 months of their anticipated deployment dates. Depending on individual medical status some persons may require additional laboratory results to be current within two to six weeks of anticipated deployment.

Teresa R. Pierce,
Reports Clearance Officer.

[FR Doc. 01-5679 Filed 3-7-01; 8:45 am]

BILLING CODE 7555-01-M